DEPARTMENT OF COMMERCE

International Trade Administration

Advisory Committee on Supply Chain Competitiveness Solicitation of Nominations for Membership

AGENCY: International Trade Administration, U.S. Department of Commerce.

ACTION: Notice of an Opportunity for Representatives of Public or Semi-Public Organizations or Entities, Including Ports, To Apply for Membership on the Advisory Committee on Supply Chain Competitiveness.

SUMMARY: The Department of Commerce is currently seeking applications for public or semi-public organizations or entities, including ports, to serve as members of the Advisory Committee on Supply Chain Competitiveness (Committee). Representatives of ports are particularly encouraged to apply. The purpose of the Committee is to advise the Secretary on the necessary elements of a comprehensive, holistic national freight infrastructure and a national freight policy designed to support U.S. export growth and competitiveness, foster national economic competitiveness, and improve U.S. supply chain competitiveness in the domestic and global economy.

DATES: Nominations for membership must be received on or before February 24, 2012.

ADDRESSES: Richard Boll, Office of Service Industries, Room CC307, U.S. Department of Commerce, 1401 Constitution Avenue NW., Washington, DC 20230; phone 202-482-1135; email: richard.boll@trade.gov.

FOR FURTHER INFORMATION CONTACT: Richard Boll, Office of Service Industries, Room CC307, U.S. Department of Commerce, 1401 Constitution Avenue NW., Washington, DC 20230; phone 202-482-1135; email: richard.boll@trade.gov.

SUPPLEMENTARY INFORMATION: The Secretary of Commerce invites nominations to the Committee of representatives of ports for the charter term that began November 21, 2011, for appointments for a two-year term concurrent with the charter term. The Committee charter was recently amended to allow for representatives of public or semi-public organizations or entities, including ports, to serve as members of the Committee, and nominations of such representatives are being sought through this notice. Representatives of ports are particularly encouraged to apply.

All Committee members will be selected in accordance with applicable Department of Commerce guidelines, based upon their ability to advise the Secretary of Commerce on the necessary elements of a comprehensive, holistic national freight infrastructure and a national freight policy designed to support U.S. export growth and competiveness, foster national economic competitiveness, and improve U.S. supply chain competitiveness in the domestic and global economy. Members shall represent a balanced and broad range of interests, including representatives from supply chain firms or their associations (including shippers and all modes of freight transportation (trucking, rail, maritime, and air)), ports, stakeholders, community organizations, and others directly affected by the supply chain as well as experts from academia. ITA previously solicited nominations for representatives of other points of view and academia. See 76 FR 77778 (Dec. 14, 2011) for more information.

The membership should reflect the general composition of the U.S. supply chain industry.

Other than the experts from academia, all members shall serve in a representative capacity, expressing their views and interests of a U.S. entity or organization, as well as its particular sector. Members serving in such a representative capacity are not Special Government Employees. The members from academia serve as experts and therefore are Special Government Employees (SGEs) and shall be subject to the ethical standards applicable to SGEs.

Each member of the Committee must be a U.S. citizen, not a federally registered lobbyist, and not registered as a foreign agent under the Foreign Agents Registration Act. All appointments are made without regard to political affiliation. Self-nominations will be accepted.

Members of the Committee will not be compensated for their services or reimbursed for their travel expenses. The Committee shall meet as often as necessary as determined by the DFO, but not less than once per year.

Members shall serve at the pleasure of the Secretary from the date of appointment to the Committee to the date on which the Committee's charter terminates.

Nominations for membership on the Committee to represent public or semi-public organizations or entities, including ports, should provide the following information:

(1) Name, title, and relevant contact information (including phone, fax, and email address) of the individual requesting consideration;

(2) An affirmative statement that the applicant is not required to register as a foreign agent under the Foreign Agents Registration Act of 1938;

(3) An affirmative statement that the applicant is not a federally registered lobbyist, and that the applicant understands that if appointed, the applicant will not be allowed to continue to serve as a Committee member if the applicant becomes a federally registered lobbyist;

(4) A sponsor letter on the sponsoring entity's letterhead containing a brief description why the nominee should be considered for membership;

(5) Short biography of nominee including credentials;

(6) Brief description of the entity to be represented and its activities and size (number of employees or members and annual sales, if applicable); and

(7) An affirmative statement that the applicant meets all Committee eligibility requirements for representative members, including that the applicant represents a U.S. company or U.S. organization.

a. For purposes of Committee eligibility, a U.S. company is at least 51 percent owned by U.S. persons.

b. For purposes of Committee eligibility, a U.S. organization is controlled by U.S. persons, as determined based on its board of directors (or comparable governing body), membership, and funding sources, as applicable.

Nominations may be emailed to: richard.boll@trade.gov or faxed to the attention of Richard Boll at 202-482-0316, or mailed to Richard Boll, Office of Service Industries, Room CC118, U.S. Department of Commerce, 1401 Constitution Avenue NW., Washington, DC 20230, and must be received on or before February 24, 2012. Nominees selected for appointment to the Committee will be notified.

Dated: February 6, 2012.
David Long,
Director, Office of Service Industries.

[FR Doc. 2012-3168 Filed 2-9-12; 8:45 am]

BILLING CODE P